DEPARTMENT OF THE INTERIOR

Bureau of Reclamation

Walker River Basin Acquisition Program

AGENCY: Bureau of Reclamation, Interior.

ACTION: Notice of cancellation.

SUMMARY: The Bureau of Reclamation (Reclamation) is canceling work on the Environmental Impact Statement (EIS) for the Walker River Basin Acquisition Program (Acquisition Program). Reclamation has determined that the action of providing funds for the Acquisition Program as authorized in Public Laws 109-103 and 111-85 is not a Federal discretionary action. In addition, Reclamation does not have control over the expenditure of the funds by the Acquisition Program recipient and has therefore determined National Environmental Policy Act (NEPA) compliance is not necessary per 2008 Department of Interior regulations for implementing NEPA (43 Code of Federal Regulations [CFR] Part 46 Implementation of the NEPA of 1969). Reclamation included its decision that NEPA compliance is not required in the July 2009 Draft EIS and shared the decision at the August 2009 public hearings. In February 2010, Reclamation issued a Revised Draft EIS with incorporation of public comment for informational purposes only rather than a NEPA analysis. Additional comments were not solicited on this February 2010 Revised Draft EIS, and a Final EIS and Record of Decision (ROD) will not be prepared.

FOR FURTHER INFORMATION CONTACT: Mrs. Caryn Huntt DeCarlo, Lahontan Basin Area Office at 775-884-8352, or e-mail chunttdecarlo@usbr.gov.

SUPPLEMENTARY INFORMATION: Since 1882, diversions from the Walker River, primarily for irrigated agriculture, have resulted in a steadily declining surface elevation of Walker Lake with a current net decrease of 156 feet. The decrease has resulted in extremely poor water quality and deteriorated lake ecology. As a result, several Federal laws have been passed to address the lake's environmental conditions. Reclamation's role related to the Acquisition Program as authorized in two of those laws, Public Laws 109-103 and 111-85, is to provide funding to the University of Nevada (University) or the National Fish and Wildlife Foundation (NFWF) for their implementation of the Program. Both laws direct that the funds be used by the recipient to acquire from willing sellers land, water appurtenant to the land, and related interests in the Walker River Basin, Nevada. Acquired water rights would be transferred to provide water for environmental restoration of Walker Lake. NFWF and the University entered into an agreement in December 2009 where the University assigned all their rights, interests, and obligations for the Acquisition Program to NFWF. NFWF will be administering the Acquisition Program going forward.

Reclamation published a Notice of Intent to prepare an EIS on the Acquisition Program in the Federal Register on September 25, 2007 (72 FR 54456). Public scoping meetings on the EIS were held in October 2007 and meetings on the alternatives to be evaluated in the EIS were held in June 2008. Reclamation developed a No Action Alternative and three acquisition alternatives to analyze in the EIS. The objective of all acquisition alternatives (Purchase, Leasing and Efficiency) was to acquire sufficient water from willing sellers to increase average annual inflow to Walker Lake by 50,000 acre feet. Reclamation published a Notice of Availability of the Draft EIS on July 24, 2009 (74 FR 36737) and a notice to reopen the comment period for review of the Draft EIS on September 23, 2009 (74 FR 48596).

In 2008, DOI promulgated its regulations for implementing NEPA (43 Code of Federal Regulations [CFR] part 46 Implementation of the NEPA of 1969); the rule was finalized on November 14, 2008. Section 46.100(a) of these regulations state in part “If Federal funding is provided with no Federal agency control as to the expenditure of such funds by the recipient, NEPA compliance is not necessary.” Reclamation evaluated its role for the Acquisition Program and determined the agency does not exercise control or responsibility over the Acquisition Program, is not approving the action, and does not have control over the expenditure of Federal funds by the recipient. Therefore, Reclamation determined that NEPA compliance is not required and a ROD will not be issued. This determination regarding NEPA compliance and why Reclamation would not be issuing a ROD was explained in the July 2009 Draft EIS and shared at the August 2009 EIS public hearings. Reclamation also shared that while the agency decided NEPA compliance was not required, there was value in soliciting public comments on the Draft EIS, responding to comments and incorporating as appropriate into the analysis. Reclamation stated at the time that a Final EIS would be completed for informational purposes, but later determined the title Revised Draft EIS was more appropriate since a ROD would not be issued.

In February 2010, Reclamation released a Revised Draft EIS that included responses to public comments on the July 2009 Draft EIS and incorporated appropriate changes to the analysis from public comment, new legislation, and data. The Revised Draft EIS was prepared for informational purposes rather than as a required NEPA analysis for Federal agency decision making. Additional comments on the Revised Draft EIS were not solicited and the document noted that a Final EIS and ROD would not be prepared and that the EIS would be formally cancelled via notice in the Federal Register.

Dated: June 28, 2010.
Pablo R. Arroyave,
Deputy Regional Director, Mid-Pacific Region.

[FR Doc. 2010-16300 Filed 7-2-10; 8:45 am]

BILLING CODE 4310-MN-P